SOCIAL SECURITY ADMINISTRATION

Privacy Act of 1974; as Amended New System of Records and New Routine Use Disclosures

AGENCY: Social Security Administration (SSA).

ACTION: Proposed new system of records and proposed routine uses.

SUMMARY: In accordance with the Privacy Act (5 U.S.C. 552a(e)(4) and (e)(11)), we are issuing public notice of our intent to establish a new system of records entitled Electronic Freedom of Information Act (eFOIA) System, 60-0340, and routine uses applicable to this system of records. The proposed system of records will consist of Freedom of Information Act (FOIA) initial requests from individuals and groups of individuals and replies from SSA's Freedom of Information Officer; FOIA appeals and replies to those appeals; and information associated with FOIA initial and appeal requests (e.g., copies of records disclosed or withheld). We invite public comments on this proposal.

DATES: We filed a report of the proposed new system of records and proposed routine use disclosures with the Chairman of the Senate Committee on Homeland Security and Governmental Affairs, the Chairman of the House Committee on Government Reform, and the Director, Office of Information and Regulatory Affairs, Office of Management and Budget (OMB) on January 11, 2005. The proposed system of records and routine uses will become effective on February 20, 2005, unless we receive comments warranting it not to become effective.

ADDRESSES: Interested individuals may comment on this publication by writing to the Executive Director, Office of Public Disclosure, Office of the General Counsel, Social Security Administration, Room 3-A-6 Operations Building, 6401 Security Boulevard, Baltimore, Maryland 21235-6401. All comments received will be available for public inspection at the above address.

FOR FURTHER INFORMATION CONTACT: Ms. Linda Thibodeaux, Lead Social Insurance Specialist, Strategic Issues Team, Office of Public Disclosure, Office of the General Counsel, Social Security Administration, Room 3-A-6 Operations Building, 6401 Security Boulevard, Baltimore, Maryland 21235, e-mail address at linda.thibodeaux@ssa.gov, or by telephone at (410) 965-9821.

SUPPLEMENTARY INFORMATION:

I. Background and Purpose of the Proposed eFOIA System

A. General Background

The Social Security Administration's Freedom of Information Act (FOIA) workload has increased rapidly in the last several years and is expected to continue increasing in volume. The existing system that is used to control and process this workload is antiquated and was not designed to interface with other systems that support the functionality of the eFOIA System. The proposed eFOIA System is an Internet Web-based integrated system that will afford the public an opportunity to make FOIA requests via the Internet and uses the Department of Treasury's pay.gov service to provide the customer with a fast and effective means to pay his or her FOIA fees. In addition, one system allows SSA staff to keep current with the growing FOIA workload and more fully comply with the provisions of the Electronic Freedom of Information Act Amendments of 1996 that amended the FOIA.

B. Collection and Maintenance of the Data for the Proposed New System of Records Entitled the eFOIA System

The information that SSA will collect and maintain in the eFOIA System will consist of initial FOIA requests from individuals or groups of individuals to SSA's Freedom of Information Officer and copies of replies to those requests; copies of FOIA appeal requests; and information SSA generates in responding to FOIA initial and appeal requests. The information maintained in the proposed eFOIA System will be maintained in electronic formats and will include information on all FOIA requests. Specifically, it will contain: (1) The requester's name, address, control number, and subject matter of the request; (2) incoming request; (3) replies to the request; (4) appeals based on the replies; and (4) replies to the appeals. We will retrieve information from the proposed eFOIA System by using the individual's name and/or address, control number assigned to the incoming request and subsequent correspondence or subject matter area. Thus the eFOIA System will constitute a system of records under the Privacy Act.

II. Proposed Routine Use Disclosures of Data Maintained in the Proposed eFOIA System

A. Proposed Routine Use Disclosures

We are proposing to establish routine uses of information that will be maintained in the proposed eFOIA System as discussed below.

1. To the Office of the President for the purpose of responding to an individual pursuant to an inquiry received from that individual or from a third party on his or her behalf.

We will disclose information under this routine use only in situations in which an individual may contact the Office of the President, seeking that Office's assistance in a matter relating to information contained in this system of records. Information will be disclosed when the Office of the President makes an inquiry and indicates that it is acting on behalf of the individual whose record is requested.

2. To a congressional office in response to an inquiry from that office made at the request of the subject of a record.

We will disclose information under this routine use only in situations in which an individual may ask his or her congressional representative to intercede in a matter relating to information contained in this system of records. Information will be disclosed when the congressional representative makes an inquiry and indicates that he or she is acting on behalf of the individual whose record is requested.

3. To the Internal Revenue Service (IRS), as necessary for the purpose of auditing SSA's compliance with safeguard provisions of the Internal Revenue Code (IRC) of 1986, as amended.

We will disclose information under this routine use only as necessary to enable the IRS to audit SSA's compliance with the safeguard provisions of the IRC of 1986, as amended.

4. To the Department of Justice (DOJ) to defend SSA in FOIA litigation involving a record maintained in this system of records.

We will disclose information under this routine use only to DOJ as necessary to defend SSA when a member of the public files suit against SSA under the FOIA.

5. To the Department of Justice (DOJ), a court or other tribunal, or another party before such tribunal when:

(a) SSA, or any component thereof; or

(b) any SSA employee in his/her official capacity; or

(c) any SSA employee in his/her individual capacity where DOJ (or SSA where it is authorized to do so) has agreed to represent the employee; or

(d) the United States or any agency thereof where SSA determines that the litigation is likely to affect the operation of SSA or any of its components, is a party to litigation or has an interest in such litigation, and SSA determines that the use of such records by DOJ, a court or other tribunal, or another party before such tribunal, is relevant and necessary to the litigation, provided, however, that in each case, SSA determines that such disclosure is compatible with the purpose for which the records were collected.

We will disclose information under this routine use only as necessary to enable DOJ to effectively defend SSA, its components or employees, in litigation involving the proposed new system of records and ensure that courts and other tribunals have appropriate information.

6. Non-tax return information which is not restricted from disclosure by Federal law may be disclosed to the General Services Administration (GSA) and the National Archives and Records Administration (NARA) under 44 U.S.C. 2904 and 2906, as amended by NARA Act of 1984, for the use of those agencies in conducting records management studies.

The Administrator of GSA and the Archivist of NARA are charged by 44 U.S.C. 2904, as amended, with promulgating standards, procedures and guidelines regarding record management and conducting records management studies. 44 U.S.C. 2906, as amended, provides that GSA and NARA are to have access to Federal agencies' records and that agencies are to cooperate with GSA and NARA. In carrying out these responsibilities, it may be necessary for GSA and NARA to have access to this proposed system of records. In such instances, the routine use will facilitate disclosure.

7. To student volunteers, individuals working under a personal service contract, and other individuals performing functions for SSA but technically not having the status of Agency employees, if they need access to the records in order to perform their assigned agency functions.

Under certain Federal statutes, SSA is authorized to use the service of volunteers and participants in certain educational, training, employment and community service programs. Examples of such statutes and programs include: 5 U.S.C. 3111 regarding student volunteers and 42 U.S.C. 2753 regarding the College Work-Study Program. We contemplate disclosing information under this routine use only when SSA uses the services of these individuals, and they need access to information in this system to perform their assigned Agency duties.

8. To Federal, State, and local law enforcement agencies and private security contractors, as appropriate, information necessary:

• To enable them to protect the safety of SSA employees and customers, the security of the SSA workplace, and the operation of SSA facilities, or

• To assist investigations or prosecutions with respect to activities that affect such safety and security or activities that disrupt the operation of SSA facilities.

We will disclose information under this routine use to law enforcement agencies and private security contractors when information is needed to respond to, investigate, or prevent, activities that jeopardize the security and safety of SSA customers, employees or workplaces or that otherwise disrupt the operation of SSA facilities. Information would also be disclosed to assist in the prosecution of persons charged with violating Federal or local law in connection with such activities.

9. To contractors and other Federal agencies, as necessary, for the purpose of assisting SSA in the efficient administration of its programs. We contemplate disclosing information under this routine use only in situations in which SSA may enter into a contractual or similar agreement with a third party to assist in accomplishing an Agency function relating to this system of records.

We will disclose information under this routine use only in situations in which SSA may enter into a contractual agreement or similar agreement with a third party to assist in accomplishing an Agency function relating to this system of records.

10. The Commissioner shall disclose to the Secretary of Health and Human Services (HHS), or to any State, any record or information requested in writing by the Secretary to be so disclosed for the purpose of administering any program administered by the Secretary, if records or information of such type were so disclosed under applicable rules, regulations and procedures in effect before the date of enactment of the Social Security Independence and Program Improvements Act of 1994.

We will disclose information under this routine use only when the records or information of such type were so disclosed under applicable rules, regulations and procedures that were in effect prior to SSA becoming independent of HHS.

B. Compatibility of Proposed Routine Uses

The Privacy Act (5 U.S.C. 552a(b)(3)) and our disclosure regulations (20 CFR part 401) permit us to disclose information under a published routine use for a purpose that is compatible with the purpose for which we collected the information. Section 401.150(c) of SSA Regulations permits us to disclose information under a routine use where necessary to carry out SSA programs. SSA Regulations at §401.120 provide that we will disclose information when a law specifically requires the disclosure. The proposed routine uses numbered 1 through 5 and 7 through 10 above will ensure SSA's efficient administration of the FOIA. The disclosure that would be made under routine use number 6 is required by Federal law. Thus, all routine uses are appropriate and meet the relevant statutory and regulatory criteria.

III. Records Storage Medium and Safeguards for the Proposed New System Entitled the eFOIA System

SSA will maintain information in the eFOIA System in electronic form. Only authorized SSA and contractor personnel who have a need for the information in the performance of their official duties will be permitted access to the information. We will safeguard the security of the information by requiring the use of access codes to enter the computer system that will maintain the data and will store computerized records in secured areas that are accessible only to employees who require the information to perform their official duties.

Contractor personnel having access to data in the proposed system of records will be required to adhere to SSA rules concerning safeguards, access and use of the data.

SSA and contractor personnel having access to the data on this system will be informed of the criminal penalties of the Privacy Act for unauthorized access to, or disclosure of, information maintained in this system. See 5 U.S.C. §552a(i)(1).

IV. Effect of the Proposed eFOIA System on the Rights of Individuals

Members of the public have the right under the FOIA to request information from Federal agencies. The proposed eFOIA System will enable SSA to more effectively and efficiently respond to requesters of information and manage SSA's Freedom of Information workload, thereby ensuring that individuals' rights under the FOIA are not abridged. Additionally, SSA will adhere to all applicable provisions of the Privacy Act, and other Federal statutes, that govern our use and disclosure of the information that will be maintained in the proposed eFOIA System. Thus, we do not anticipate that this proposed system of records will have any unwarranted adverse effect on the privacy or other rights of individuals who will be covered by the eFOIA System.

Dated: January 11, 2005.
Jo Anne B. Barnhart,
Commissioner.

Social Security Administration (SSA) Notice of System of Records Required by the Privacy Act of 1974; as Amended

System Number:

60-0340.

System Name:

Electronic Freedom of Information Act (eFOIA) System, SSA/OGC/OPD.

Security Classification:

None.

System Location:

Office of Public Disclosure, Office of the General Counsel, Social Security Administration, 6401 Security Boulevard, Baltimore, Maryland 21235-6401.

Categories of Individuals Covered by the System:

Individuals, or groups of individuals, who write to the Freedom of Information Officer, Social Security Administration.

Categories of Records in the System:

Copies of Freedom of Information Act (FOIA) initial requests from individuals and groups of individuals and replies from SSA's Freedom of Information Officer; FOIA appeals and replies to those appeals; and SSA records that relate to initial and appeal requests (e.g., copies of records that are disclosed and withheld).

Authority for Maintenance of the System:

The Freedom of Information Act (5 U.S.C. 552).

Purpose(s):

This system will be used to manage the Agency's FOIA workload. This includes assigning work, processing work electronically, tracking the status of assignments and providing management information reports relating to the FOIA requests received by SSA.

Routine Uses of Records Maintained in the System, Including Categories of Users and the Purpose of Such Uses:

Disclosure may be made for routine uses as indicated below. However, disclosure of any information defined as “return or return information” under 26 U.S.C. 6103 of the Internal Revenue Code (IRC) will not be made unless authorized by a statute, the Internal Revenue Service (IRS), or IRS regulations.

1. To the Office of the President for the purpose of responding to an individual pursuant to an inquiry received from that individual or from a third party on his or her behalf.

2. To a congressional office in response to an inquiry from that office made at the request of the subject of a record.

3. To the Internal Revenue Service (IRS), as necessary, for the purpose of auditing SSA's compliance with safeguard provisions of the Internal Revenue Code (IRC) of 1986, as amended.

4. To the Department of Justice (DOJ) to defend SSA in FOIA litigation involving a record maintained in this system of records.

5. To the Department of Justice (DOJ), a court or other tribunal, or another party before such tribunal when:

a. SSA, any component thereof; or

b. Any SSA employee in his/her official capacity; or

c. Any SSA employee in his/her individual capacity where DOJ (or SSA where it is authorized to do so) has agreed to represent the employee; or

d. The United States or any agency thereof where SSA determines that the litigation is likely to affect the operations of SSA or any of its components, is a party to litigation or has an interest in such litigation, and SSA determines that the use of such records by DOJ, a court or other tribunal, or another party before such tribunal, is relevant and necessary to the litigation, provided, however, that in each case, SSA determines that such disclosure is compatible with the purpose for which the records were collected.

Disclosure of any information defined as “returns or return information” under 26 U.S.C. 6103 of the Internal Revenue Code (IRC) will not be made unless authorized by a statute, the Internal Revenue Service (IRS), or IRS regulations.

6. Non-tax return information which is not restricted from disclosure by Federal law may be disclosed to the General Services Administration (GSA) and the National Archives and Records Administration (NARA) under 44 U.S.C. 2904 and 2906, as amended by NARA Act of 1984, for the use of those agencies in conducting records management studies.

7. To student volunteers, individuals working under a personal service contract, and other individuals performing functions for SSA but technically not having the status of Agency employees, if they need access to the records in order to perform their assigned Agency functions.

8. To Federal, State, and local law enforcement agencies and private security contractors, as appropriate, information necessary:

a. To enable them to protect the safety of SSA employees and customers, the security of the SSA workplace, and the operation of SSA facilities, or

b. To assist investigations or prosecutions with respect to activities that affect such safety and security or activities that disrupt the operation of SSA facilities.

9. To contractors and other Federal agencies, as necessary, for the purpose of assisting SSA in the efficient administration of its programs. We contemplate disclosing information under this routine use only in situations in which SSA may enter into a contractual or similar agreement with a third party to assist in accomplishing an Agency function relating to this system of records.

10. The Commissioner shall disclose to the Secretary of Health and Human Services (HHS), or to any State, any record or information requested in writing by the Secretary to be so disclosed for the purpose of administering any program administered by the Secretary, if records or information of such type were so disclosed under applicable rules, regulations and procedures in effect before the date of enactment of the Social Security Independence and Program Improvements Act of 1994.

Policies and Practices for Storing, Retrieving, Accessing, Retaining and Disposing of Records in the System:

Storage:

Records in this system are maintained and stored in electronic form.

Retrievability:

Records in this system are retrieved by a requester's or third party's first name, last name, Social Security Number (SSN), subject matter, or control number.

Safeguards:

Security measures include the use of access codes to enter the computer system which will maintain the data, the storage of computerized records in secured areas which are accessible only to employees who require the information in performing their official duties. Any manually maintained records will be kept in locked cabinets or in otherwise secure areas. SSA employees who have access to the data will be informed of the criminal penalties of the Privacy Act for unauthorized access to or disclosure of information maintained in the system. See 5 U.S.C. 552a(i)(1).

Contractor personnel having access to data in the system of records will be required to adhere to SSA rules concerning safeguards, access and use of the data.

Retention and Disposal:

Any document related to a FOIA request that has been denied will be retained (stored electronically) for six years from the response date. Requests that have been granted will be retained for two years from the response date. When the time period has elapsed, the case will be deleted provided (1) it is a closed case and (2) there are no open cases linked to that case. If the case is still open or linked to another open case, deletion will be delayed until closure of all cases involved.

System Manager(s):

Freedom of Information Officer, Office of Public Disclosure, Office of the General Counsel, Social Security Administration, 6401 Security Boulevard, Baltimore, Maryland 21235-6401.

Notification Procedure(s):

An individual can determine if this system contains a record about him/her by writing to the systems manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing name, SSN, address, date of birth, place of birth, and at least one other piece of identifying information that parallels the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth along with one other piece of information such as mother's maiden name) and ask for his/her permission to provide the information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40).

Record Access Procedure(s):

Same as Notification procedures. Requesters also should reasonably specify the record contents they are seeking. These procedures are in accordance with SSA Regulations (20 CFR 401.50).

Contesting Record Procedure(s):

Same as Notification procedures. Requesters should also reasonably identify the record, specify the information they are contesting, and state the corrective action sought and the reasons for the correction with supporting justification showing how the record is untimely, incomplete, inaccurate, or irrelevant. These procedures are in accordance with SSA Regulations (20 CFR 401.65).

Record Source Categories:

Information is furnished by the inquirer and generated by SSA in response to FOIA requests.

Systems Exempt From Certain Provisions of the Privacy Act:

None.

[FR Doc. 05-1251 Filed 1-24-05; 8:45 am]

BILLING CODE 4191-02-P